JUDICIAL CONFERENCE OF THE UNITED STATES

Hearings of the Judicial Conference Advisory Committee on Rules of Criminal Procedure

AGENCY: Advisory Committee on Rules of Criminal Procedure, Judicial Conference of the United States.

ACTION: Notice of cancellation of open hearing.

SUMMARY: Federal Register Citation of Previous Announcement: 77 FR 49828.

The following public hearing on proposed amendments to the Federal Rules of Criminal Procedure has been canceled: Criminal Rules Hearing, January 28, 2013, Washington, DC.

FOR FURTHER INFORMATION CONTACT: Benjamin J. Robinson, Deputy Rules Officer and Counsel, Administrative Office of the United States Courts, Washington, DC 20544, telephone (202) 502-1820.

Dated: December 31, 2012.
Benjamin J. Robinson,
Rules Committee Deputy and Counsel.

[FR Doc. 2012-31708 Filed 1-3-13; 8:45 am]

BILLING CODE 2210-55-P